ENVIRONMENTAL PROTECTION AGENCY

40 CFR Part 52

[AK-21-1709-b; FRL-7123-3]

Approval and Promulgation of State Implementation Plans; Inspection and Maintenance Program and Fuel Requirements: Alaska

AGENCY: Environmental Protection Agency (EPA).

ACTION: Proposed rule.

SUMMARY: The Environmental Protection Agency (EPA) proposes to approve two revisions to the carbon monoxide (CO) Alaska State Implementation Plan (SIP) in the Alaska Administrative Code (AAC). These two revisions to the SIP were submitted on February 24, 2000 and February 2, 2001. EPA is also proposing to grant final approval of Alaska's revised Inspection and Maintenance (I/M) Program SIP credit claim to 100% of credit applied to centralized I/M programs under Section 348 of the National Highway System Designation Act. This was resubmitted on November 7, 2001.

Dates: Written comments must be received in writing by February 7, 2002.

ADDRESSES: Written comments should be addressed to Wayne Elson, Environmental Protection Specialist (OAQ-107), Office of Air Quality, at the EPA Regional Office listed below. Copies of the state submittal are available at the following addresses for inspection during normal business hours. The interested persons wanting to examine these documents should make an appointment with the appropriate office at least 24 hours before the visiting day.

Environmental Protection Agency, Region 10, Office of Air Quality, 1200 6th Avenue, Seattle, WA 98101. The Alaska Department of Environmental Conservation, 410 Willoughby Avenue, Suite 105, Juneau, AK 99801-1795.

FOR FURTHER INFORMATION CONTACT: Mr. Wayne Elson, Office of Air Quality, (OAQ-107), EPA, 1200 6th Avenue, Seattle, WA 98101, (206) 553-1463.

SUPPLEMENTARY INFORMATION: The SIP revisions cover amendments to I/M requirements for Motor Vehicles (18 AAC 52), the State Air Quality Control Plan (18 AAC 50), and Fuel Requirements for Motor Vehicles (18 AAC 53). The most salient aspects of these rule changes include: new I/M equipment specifications and amending the Alaska I/M Program Manual; delayed start date for On-Board Diagnostic (OBD II) I/M test requirements; making vehicle stickers mandatory; removing the “fast fail” option and begin to require that all inspections be full and complete; and streamline and update several portions of the Alaska Air Quality Control Plan for more efficient reading and organization. This final approval of Alaska's I/M program credit claim to 100% removes the interim status of EPA's interim approvals of October 10, 1996 (61 FR 53163) and May 19, 1997 (62 FR 27199) for 85% of credit applied to centralized I/M programs.

In the Final Rules Section of this Federal Register, the EPA is approving the State's SIP submittal as a direct final rule without prior proposal because the Agency views this as a noncontroversial submittal amendment and anticipates no adverse comments. A detailed rationale for the approval is set forth in the direct final rule. If no adverse comments are received in response to this action, no further activity is contemplated. If the EPA receives adverse comments, the direct final rule will be withdrawn and all public comments received will be addressed in a subsequent final rule based on this proposed rule. The EPA will not institute a second comment period. Any parties interested in commenting on this action should do so at this time. Please note that if we receive adverse comment on an amendment, paragraph, or section of this rule and if that provision may be severed from the remainder of the rule, we may adopt as final those provisions of the rule that are not the subject of an adverse comment.

For additional information, see the Direct Final rule which is located in the Rules Section of this Federal Register.

Dated: December 12, 2001.
L. John Iani,
Regional Administrator, Region 10.

[FR Doc. 02-219 Filed 1-7-02; 8:45 am]

BILLING CODE 6560-50-P